ENVIRONMENTAL PROTECTION AGENCY

[ER-FRL-9018-2]

Environmental Impact Statements; Notice of Availability

Responsible Agency: Office of Federal Activities, General Information (202) 564-7146 or http://www.epa.gov/compliance/nepa/.

Weekly receipt of Environmental Impact Statements

Filed 11/17/2014 Through 11/21/2014

Pursuant to 40 CFR 1506.9.

Notice: Section 309(a) of the Clean Air Act requires that EPA make public its comments on EISs issued by other Federal agencies. EPA's comment letters on EISs are available at: http://www.epa.gov/compliance/nepa/eisdata.html.

EIS No. 20140332, Final EIS, BR, NV, Newlands Project Final Resource Management Plan, Review Period Ends: 12/29/2014, Contact: Bob Edwards 775-884-8342

EIS No. 20140333, Draft EIS, BR, CA, Central Valley Project Municipal and Industrial Water Shortage Policy, Comment Period Ends: 01/12/2015, Contact: Tim Rust 916-978-5516

EIS No. 20140334, Final EIS, USAF, SD, Powder River Training Complex Ellsworth Air Force Base, Review Period Ends: 12/29/2014, Contact: Judith Keith 210-925-3367

EIS No. 20140335, Final EIS, USFS, CO, Village at Wolf Creek Access Project, Review Period Ends: 01/05/2015, Contact: Adam Mendonca 719-852-6225

EIS No. 20140336, Final EIS, NIH, MD, Proposed 2013 Master Plan National Institutes of Health Bethesda Campus, Review Period Ends: 01/05/2015, Contact: Mark Radtke 301-451-6467

EIS No. 20140337, Final EIS, USFWS, AZ, Proposed Revision to the Regulations for the Nonessential Experimental Population of the Mexican Wolf (Canis lupus baileyi), Review Period Ends: 12/29/2014, Contact: Sherry Barrett 505-761-4704

EIS No. 20140338, Draft EIS, USACE, CA, Cordova Hills Project, Comment Period Ends: 01/12/2015, Contact: Lisa Gibson 916-557-5288

Amended Notices

EIS No. 20140298, Draft EIS, USACE, WA, Puget Sound Nearshore Ecosystem Restoration, Comment Period Ends: 01/23/2015, Contact: Nancy C. Gleason 206-764-6577 Revision to FR Notice Published 10/10/2014; Extending Comment Period from 11/24/2014 to 01/23/2015

EIS No. 20140314, Draft EIS, HUD, CA, Potrero HOPE SF Master Plan Project, Comment Period Ends: 01/07/2015, Contact: Eugene Flannery 415-701-5598 Revision to FR Notice Published 11/07/2014; Extending Comment Period from 12/22/2014 to 01/07/2015

Dated: November 24, 2014.
Cliff Rader,
Director, NEPA Compliance Division, Office of Federal Activities.

[FR Doc. 2014-28152 Filed 11-26-14; 8:45 am]

BILLING CODE 6560-50-P